DEPARTMENT OF COMMERCE

International Trade Administration

California Institute of Technology; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC.

Docket Number: 16-017. Applicant: California Institute of Technology, Pasadena, CA 91125. Instrument: Photonic Professional GT 3D laser Lithography System. Manufacturer: Nanoscribe GmbH, Germany. Intended Use: See notice at 81 FR 89433, December 12, 2016.

Comments: None received. Decision: Approved. We know of no instrument of equivalent scientific value to the foreign instrument described below, for such purposes as this is intended to be used, that was being manufactured in the United States at the time of order. Reasons: The instrument will be used to develop structural meta-materials that are mechanically robust and multi-functional. The instrument allows the fabrication of 3-dimensional architectures out of polymer, with dimensions on the order of nanometers. There is no other instrument capable of resolving features down to that size because to attain such resolution it is necessary to have the two-photon laser capability.

Dated: April 6, 2017.
Gregory W. Campbell,
Director, Subsidies Enforcement Office, Enforcement and Compliance.

[FR Doc. 2017-07263 Filed 4-10-17; 8:45 am]

BILLING CODE 3510-DS-P